DEPARTMENT OF HEALTH AND HUMAN SERVICES

Administration for Children and Families

Proposed Information Collection Activity; Comment Request

Proposed Projects: Office of Child Care CCDF Onsite Monitoring.

Title: Child Care and Development Fund (CCDF) State Monitoring Compliance Demonstration Packet.

OMB No.: New.

Description: This is a new proposed data collection from the Office of Child Care (OCC) for the Onsite Monitoring System.

Section 658I of the Child Care and Development Block Grant Act and Subpart J of 45 CFR, part 98 of the Child Care and Development Fund requires the monitoring of programs funded under the CCDF for compliance with:

(1) The Act;

(2) CCDF Regulations; and

(3) The State/Territory CCDF approved Plan.

The proposed data collection will be used by the Office of Child Care (OCC) to monitor State CCDF Lead Agencies to determine and validate compliance with CCDF regulations and the approved State Plan. The data collection is designed to provide States with the flexibility to propose an approach that is feasible and sufficient to demonstrate compliance based on State circumstances and processes. State Lead Agencies will participate in onsite monitoring based on a 3-year cohort; submitting data once every three years. OCC will begin monitoring for compliance in FY 2019.

The data collection for the first 3-years will focus on 11 topical areas: (1) Disaster Preparedness, Response and Recovery; (2) Consumer Education: Dissemination of Information to Parents, Providers, and General Public (Monitoring Reports and Annual Aggregate Data); (3) Twelve-Month Eligibility; (4) Child: Staff Ratios and Group Sizes; (5) Health and Safety Requirements for Providers (11 Health and Safety Topics); (6) Pre-Service/Orientation and Ongoing Training Requirements for Providers; (7) Inspections for CCDF Licensed Providers; (8) Inspections for License-Exempt CCDF Providers; (9) Ratios for Licensing Inspectors; (10) Child Abuse and Neglect Reporting; and (11) Program Integrity.

In developing the Onsite Monitoring System, OCC convened a workgroup of states to provide feedback and input on the design of the Onsite Monitoring System. As part of the workgroup discussions, states emphasized the need for individualized monitoring because of the complexity of each state's CCDF structure and variance in implementation strategies. As a response, OCC developed the Compliance Demonstration Packet that offers states the opportunity to propose their approach to demonstrating compliance based on how their CCDF program is administered. OCC also consulted other federal programs and monitoring experts on the Onsite Monitoring System's development and incorporated their feedback regarding the efficiency and efficacy of the proposed process.

During the development of the Onsite Monitoring System, OCC conducted pilots in a number of States. Feedback received from pilot States and the pilot results were used to enhance the monitoring process and data collection method. Burden estimates below are based on an analysis of data collected through all of the pilot visits while accounting for variance in state documentation.

Respondents: State grantees and the District of Columbia.

Annual Burden Estimates
Instrument | Number of respondents | Number of responses per respondent | Average burden hours per response | Total burden hours
Compliance Demonstration Chart | 17 | 1 | 16 | 272
Document Submission Chart | 17 | 1 | 80 | 1,360

Estimated Total Annual Burden Hours: 1,632 hours.

In compliance with the requirements of the Paperwork Reduction Act of 1995 (Pub. L. 104-13, 44 U.S.C. chap 35), the Administration for Children and Families is soliciting public comment on the specific aspects of the information collection described above. Copies of the proposed collection of information can be obtained and comments may be forwarded by writing to the Administration for Children and Families, Office of Planning, Research and Evaluation, 330 C Street SW, Washington, DC 20201. Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2018-23536 Filed 10-26-18; 8:45 am]

BILLING CODE 4184-43-P